DEPARTMENT OF AGRICULTURE

Office of the Secretary

Notice of Appointment of Members to the National Agricultural Research, Extension, Education, and Economics Advisory Board

AGENCY: Research, Education, and Economics, USDA.

ACTION: Appointment of members.

SUMMARY: In accordance with the Federal Advisory Committee Act, 5 U.S.C. App 2, the United States Department of Agriculture announces the appointments made by the Secretary of Agriculture to the 10 vacancies on the National Agricultural Research, Extension, Education, and Economics Advisory Board.

DATES: Appointments by the Secretary of Agriculture are for a 3-year term, effective October 1, 2007, until September 30, 2010.

ADDRESSES: You may submit comments by any of the following methods: E-mail: joseph.dunn@usda.gov; Fax: 202-720-6199; Mail/Hand Delivery/Courier: National Agricultural Research, Extension, Education, and Economics Advisory Board; Research Extension, Education, and Economics Advisory Board Office, Room 344A, Jamie L. Whitten Building, U.S. Department of Agriculture; STOP 2255; 1400 Independence Avenue, SW., Washington, DC 20250-2255.

FOR FURTHER INFORMATION CONTACT: Joseph Dunn, Executive Director, National Agricultural Research, Extension, Education, and Economics Advisory Board, Telephone: 202-720-3684.

SUPPLEMENTARY INFORMATION: Section 802 of the Federal Agricultural Improvement and Reform Act of 1996 authorized the creation of the National Agricultural Research, Extension, Education, and Economics Advisory Board. The Board is composed of 31 members, each representing a specific category related to agriculture. The Board was first appointed in September 1996 and at the time one-third of the original members were appointed for one, two, and three-year terms, respectively. Due to the staggered appointments, the terms for 10 of the 31 members expired September 2007. Each member is appointed by the Secretary of Agriculture to a specific category on the Board, including farming or ranching, food production and processing, forestry research, crop and animal science, land-grant institutions, non-land grant college or university with a historic commitment to research in the food and agricultural sciences, food retailing and marketing, rural economic development, and natural resource and consumer interest groups, among many others. Appointees by vacancy category of the 6 new members and 4 re-appointments as follows: Category H. “National Food-Animal Science Society,” Nancy M. Cox, Director, Kentucky Agricultural Experimental Station, Associate Dean for Research, University of Kentucky College of Agriculture, Lexington, KY ; Category I. “National Crop, Soil, Agronomy, Horticulture, or Weed Science Society,” Martin A. Massengale, President Emeritus & Director, Center for Grassland Studies, University of Lincoln-Nebraska, Lincoln, NE; Category N. “1890 Land-Grant College,” Alton Thompson, Dean and Research Director, School of Agricultural and Environmental Science, North Carolina A&T State University, Greensboro, NC; Category O. “1994 Land-Grant College,” John E. Salois, President, Blackfeet Community College, Browning, MT; Category Q. “American College of Veterinary Medicine,” Thomas J. Rosol, Dean and Professor, The Ohio State University, Columbus, OH; Category U. “Food Retailing and Marketing Representative,” Calvin M. Dooley, President and CEO, Food Products Association, (Former Congressman for California), Washington, DC; Category W. “Rural Economic Development Advocate,” Walter J. Armbruster, President, Farm Foundation and Chair, Specialty Crop Committee, Oak Brook, IL; Category X. “National Consumer Interest Group,” Robin A. Douthitt, Dean, University of Wisconsin-Madison, Madison, WI; Category Y. “National Forestry Group,” Steven P. Quarles, Partner & Chair of Law Firm's, Crowell & Moring LLP, Environmental and Natural Resources, (Former Deputy Under Secretary, Department of Interior), Washington, DC; Category Z. “National Conservation or Natural Resource Group,” Edward C.A. Runge, Senior Adviser and Professor & Billie B. Turner, Chair (Emeritus), Texas A&M University, College Station, TX.

Done at Washington, DC this 8th day of November, 2007.
Gale Buchanan,
Under Secretary, Research, Education, and Economics.

[FR Doc. E7-22696 Filed 11-20-07; 8:45 am]

BILLING CODE 3410-22-P